DEPARTMENT OF HEALTH AND HUMAN SERVICES

Centers for Disease Control and Prevention

[60Day-25-1274; Docket No. CDC-2024-0080]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on the Million Hearts® Hospital & Health System Recognition Program. This program recognizes institutions working systematically to improve the cardiovascular health of the population and communities they serve.

DATES: CDC must receive written comments on or before December 20, 2024.

ADDRESSES: You may submit comments, identified by Docket No. CDC-2024-0080 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Million Hearts® Hospitals & Health Systems Recognition Program (OMB Control No. 0920-1274, Exp. 10/31/2025)—Extension—National Center for Chronic Disease Prevention and Health Promotion (NCCDPHP), Centers for Disease Control and Prevention CDC).

Background and Brief Description

Heart disease, stroke and other cardiovascular diseases (CVDs) kill over 800,000 Americans each year, accounting for one in every three deaths. CVD is the nation's number one killer among both men and women and the leading cause of health disparities. Million Hearts®, a national, public-private initiative co-led by the Centers for Disease Control and Prevention (CDC) and the Centers for Medicare & Medicaid Services (CMS), was established to address this issue. Whether migrating towards value-based reimbursement or simply striving for a significant impact in reducing the devastation of heart attacks and strokes, clinical organizations are positioned to improve the health of the population they serve by implementing high-impact, evidence-based strategies. Achieving a Million Hearts® Hospitals & Health Systems designation signals a commitment to not only clinical quality, but population health overall.

Initially launched in 2020, the Program will continue to recognize institutions that are working to systematically improve the cardiovascular health of the population and communities that they serve by implementing strategies under the Million Hearts® priority areas of: Keeping People Healthy; Optimizing Care; Improving Outcomes for Priority Populations; and Innovating for Health. CDC anticipates that new applicants will range from health systems with multiple hospitals, hospitals with and without ambulatory medical practices, and medical practices not affiliated with hospitals.

Any clinical entity whose leaders consider it eligible may apply. Recognition can be achieved by a robust commitment to implement specific strategies, by implementing specific strategies, and most importantly, by achieving specific outcomes. Applicants will complete the Million Hearts® Hospitals & Health Systems Recognition Program application, indicating the areas in which they are committing to implement Million Hearts® strategies; areas in which they have implemented key strategies; and those strategies for which they have achieved outcomes/results. Applicants must address a minimum of one strategy in at least three of the four priority areas (Keeping People Healthy, Optimizing Care, Improving Outcomes for Priority Populations, and Innovating for Health) that are outlined in the application. However, they are encouraged to target as many strategies as is appropriate for their institution. Applicants will be subject to a background check.

The Million Hearts® Hospitals and Health Systems designation conveys that the institution is committed to preventing heart attacks and strokes by a combination of efforts that are about Keeping People Healthy, Optimizing Care, Improving Outcomes for Priority Populations and Innovating for Health. All applicants with reported outcomes and a select number of those who are committing to implement or are implementing Million Hearts® strategies, will be asked to participate in a semi-structured, qualitative interview. The purpose of the interview is to obtain in-depth contextual information about the Million Hearts® strategies and facilitators used to achieve improved cardiovascular outcomes among the applicant's patient population. Applicants with reported outcomes will receive increased recognition from Million Hearts® by having their success stories highlighted by Million Hearts® by placement on the Million Hearts® website, e-newsletter. The program's web-based application will stay open throughout the year and applications will be reviewed on a quarterly basis and recognized within six months of acceptable review. CDC estimates that information will be collected from up to 50 applicants per year.

The overall goal of the Million Hearts® initiative is to prevent one million heart attacks and strokes. Promoting evidence-based strategies that prevent CVD is one focus of the initiative. CDC will use the information collected through the Million Hearts® Hospitals & Health Systems Recognition Program to increase widespread attention on successful and sustainable implementation strategies, improve understanding of these strategies at the practice level, bring visibility to organizations that commit, implement, or have implemented Million Hearts® strategies and motivate other hospitals and health systems to strengthen their efforts to address CVD.

OMB approval is requested for three years. CDC requests OMB approval for an estimated 149 annual burden hours. Participation is voluntarily and there are no costs to respondents other than their time.

Estimated Annualized Burden Hours
Type of respondents | Form name | Number of respondents | Number of responses per respondent | Avg. burden per response (in hrs.) | Total burden (in hrs.)
Medical & Health Service Manager | Recognition Program Application | 50 | 1 | 160/60 | 134
Medical & Health Service Manager | Interview Guide | 30 | 1 | 30/60 | 15
Total |  |  |  |  | 149

Jeffrey M. Zirger,
Lead, Information Collection Review Office, Office of Public Health Ethics and Regulations, Office of Science, Centers for Disease Control and Prevention.

[FR Doc. 2024-24307 Filed 10-18-24; 8:45 am]

BILLING CODE 4163-18-P